DEPARTMENT OF TRANSPORTATION

Office of the Secretary

[Docket No. DOT-OST-2012-0087]

Advisory Committee for Aviation Consumer Protection

AGENCY: Office of the Secretary (OST), Department of Transportation (DOT).

ACTION: Notice of second meeting of advisory committee.

SUMMARY: This notice announces the second meeting of the Advisory Committee for Aviation Consumer Protection.

DATES: The second meeting of the advisory committee is scheduled for August 7, 2012, from 9:00 a.m. to 5:00 p.m., Eastern Time.

ADDRESSES: The meeting will be held in Meeting Rooms 8, 9 and 10 (located on the lobby level of the West Building with capacity for approximately 80 attendees) at the U.S. Department of Transportation, 1200 New Jersey Avenue SE., Washington, DC. Attendance is open to the public; however, since access to the U.S. DOT headquarters building is controlled for security purposes, any member of the general public who plans to attend this meeting must notify the Department contact noted below at least five (5) calendar days prior to the meeting.

FOR FURTHER INFORMATION CONTACT: To register to attend the meeting, please contact Amanda Stokes, Associate Research Analyst, Centra Technology, Inc., stokesa@centratechnology.com; 703-894-6529. For other information please contact Nicholas Lowry, Senior Attorney, Office of the Assistant General Counsel for Aviation Enforcement and Proceedings, nick.lowry@dot.gov; U.S. Department of Transportation, 1200 New Jersey Ave. SE., Washington, DC, 20590; 202-366-9342 (phone), 202-366-7152 (fax).

SUPPLEMENTARY INFORMATION: On May 24, 2012, the Secretary, as mandated by Section 411 of the FAA Modernization and Reform Act of 2012 (Pub. L. 112-95, 126 Stat. 11 (2012)), established the Advisory Committee on Aviation Consumer Protection and announced those persons appointed as members. By notice dated June 13, 2012, the Department announced the first meeting of the committee. That meeting was held on June 28, 2012. A charter for the committee, drafted in accordance with the Federal Advisory Committee Act (FACA), as amended, 5 U.S.C. App. 2, sets forth policies for the operation of the advisory committee and is available on the Department's Web site at http://www.dot.gov/affairs/2012/dot5912.html.

The second meeting of the committee is scheduled for August 7, 2012, from 9:00 a.m. to 5:00 p.m. Eastern Time in Meeting Rooms 8, 9, and 10 at the Department's headquarters, 1200 New Jersey Ave. SE., Washington, DC 20590. The agenda topics for that second meeting will include a continuation of the presentation by the Office of Aviation Enforcement and Proceedings (Enforcement Office) regarding its enforcement policies and initiatives relating to air travel by persons with disabilities, which was cut short at the prior meeting. In addition, at the request of committee members, the following presentations are planned: (1) By representatives of the disability community with reference to the Department's program to protect the rights of disabled air travelers and recommendations for any new initiatives; (2) by representatives from both air carriers and the global distribution systems (GDSs) regarding regulatory issues in the display and sale of airline ancillary services through the GDSs; (3) by a representative of the industry regarding the airline industry's financial condition; and (4) by the Enforcement Office on the implementation status and the effects of the tarmac delay rule (14 CFR 259.4) and the new tarmac delay plan statutory approval requirement, 49 U.S.C. 42301.

As announced in our notice of June 13, meetings of the committee will be open to the public and, time permitting, comments by members of the public are invited. Since access to the U.S. DOT headquarters building is controlled for security purposes, we ask that any member of the general public who plans to attend the second meeting notify the Department contact noted above no later than five (5) calendar days prior to the meeting. Attendance will be necessarily limited by the size of the meeting room.

Members of the public may present written comments at any time. The docket number referenced above (OST 2012-0087, available at https://www.regulations.gov) has been established for committee documents including any written comments that may be filed. At the discretion of the Chairperson and time permitting, after completion of the planned agenda in the afternoon of the second meeting, individual members of the public may provide oral comments. Any oral comments presented must be limited to the objectives of the committee and will be limited to five (5) minutes per person. Individual members of the public who wish to present oral comments must notify the Department contact noted above via email that they wish to attend and present oral comments at least five (5) calendar days prior to the meeting. For this initial meeting, no more than one hour will be set aside for oral comments by the general public.

Persons with a disability who plan to attend the meeting and require special accommodations, such as an interpreter for the hearing impaired, should notify the Department contact noted above at least seven (7) calendar days prior to the meeting. Persons attending with a service animal should also advise us of that fact so that it can be taken into account in connection with space and possible allergy issues.

Notice of this meeting is being provided in accordance with the FACA and the General Services Administration regulations covering management of Federal advisory committees. (41 CFR Part 102-3.)

Issued in Washington, DC, on July 18, 2012.
Samuel Podberesky,
Assistant General Counsel for Aviation Enforcement & Proceedings, U.S. Department of Transportation.

[FR Doc. 2012-17861 Filed 7-20-12; 8:45 am]

BILLING CODE 4910-9X-P